DEPARTMENT OF COMMERCE

International Trade Administration

Cyber Security Business Development Mission to Japan, South Korea, and Taiwan; May 16-24, 2016

AGENCY: International Trade Administration, Department of Commerce.

ACTION: Notice.

SUMMARY: The United States Department of Commerce, International Trade Administration (ITA), is organizing an Executive-led Cyber-security Business Development Mission to Japan, South Korea and Taiwan.

The purpose of the mission is to introduce U.S. firms and trade associations to East Asia's information and communication technology (ICT) security and critical infrastructure protection markets and to assist U.S. companies to find business partners and export their products and services to the region. The mission is intended to include representatives from U.S. companies and U.S. trade associations with members that provide cyber-security and critical infrastructure protection products and services. The mission will visit Japan, South Korea and Taiwan where U.S. firms will have access to business development opportunities across East Asia. Participating firms will gain market insights, make industry contacts, solidify business strategies, and advance specific projects, with the goal of increasing U.S. exports of products and services to East Asia. The mission will include customized one-on-one business appointments with pre-screened potential buyers, agents, distributors and joint venture partners; meetings with state and local government officials and industry leaders; and networking events.

The mission will help participating firms and trade associations to gain market insights, make industry contacts, solidify business strategies, and advance specific projects, with the goal of increasing U.S. exports to Japan, South Korea and Taiwan. By participating in an official U.S. industry delegation, rather than traveling to Japan, South Korea and Taiwan on their own, U.S. companies will enhance their ability to secure meetings in those countries and gain greater exposure to the region.

Schedule
Sunday, May 15 | Trade Mission Participants Arrive in Tokyo.
Monday, May 16 | Welcome and Country Briefing (Japan). One-on-One business matchmaking appointments. Networking Lunch. One-on-One business matchmaking appointments. Networking Reception at Ambassador's residence (TBC).
Tuesday, May 17 | Cabinet and Ministry Meetings. National Center of Incident Readiness and Strategy for Cybersecurity (NISC). Networking Lunch. One-on-One business matchmaking appointments or Ministry Meetings.
Wednesday, May 18 | Travel to Korea.
Thursday, May 19 | Welcome and Country Briefing (Korea). One-on-One business matchmaking appointments. Networking Lunch. One-on-One business matchmaking appointments. Networking Reception at Ambassador's residence (TBC).
Friday, May 20 | Ministry Meetings. Networking Lunch. One-on-One business matchmaking appointments or visit to Government Cyber-Security Center.
Saturday-Sunday, May 21-22 | Travel to Taiwan.
Monday, May 23 | Welcome and Country Briefing (Taiwan). One-on-One business matchmaking appointments. Networking Reception at AIT Director's residence (TBC).
Tuesday, May 24 | Cabinet and Ministry Meetings with selected delegates. Sightseeing tour (optional, paid by delegates).
Wednesday, May 25 | Trade Mission Participants Depart.

Web site: Please visit our official mission Web site for more information: http://export.gov/trademissions/cyberasia.

Participation Requirements

All parties interested in participating in the trade mission must complete and submit an application package for consideration by the DOC. All applicants will be evaluated on their ability to meet certain conditions and best satisfy the selection criteria as outlined below. A minimum of 15 and maximum of 20 firms and/or trade associations will be selected to participate in the mission from the applicant pool.

Fees and Expenses

After a firm or trade association has been selected to participate on the mission, a payment to the Department of Commerce in the form of a participation fee is required. Expenses for travel, lodging, meals, and incidentals will be the responsibility of each mission participant. Interpreter and driver services can be arranged for additional cost. Delegation members will be able to take advantage of U.S. Embassy rates for hotel rooms.

Participation fee for small or medium sized enterprises (SME): $4400.00

Participation fee for large firms or trade associations: $5800.00

Fee for each additional firm representative (large firm or SME/trade organization): $1,000.

Application

All interested firms and associations may register via the following link: https://emenuapps.ita.doc.gov/ePublic/TM/6R0R.

Exclusions

The mission fee does not include any personal travel expenses such as lodging, most meals, local ground transportation, and air transportation from the U.S. to the mission sites, between mission sites, and return to the United States. Business visas may be required. Government fees and processing expenses to obtain such visas are also not included in the mission costs. However, the U.S. Department of Commerce will provide instructions to each participant on the procedures required to obtain necessary business visas.

Timeline for Recruitment and Applications

Mission recruitment will be conducted in an open and public manner, including publication in the Federal Register, posting on the Commerce Department trade mission calendar (http://export.gov/trademissions) and other Internet Web sites, press releases to general and trade media, direct mail, notices by industry trade associations and other multiplier groups, and publicity at industry meetings, symposia, conferences, and trade shows. Recruitment for the mission will begin immediately and conclude no later than March 4, 2016. The U.S. Department of Commerce will review applications and inform applicants of selection decisions periodically during the recruitment period beginning August 17, 2015. All applications received subsequent to an evaluation date will be considered at the next evaluation. Applications received after March 4, 2016, will be considered only if space and scheduling constraints permit.

Conditions for Participation

The following criteria will be evaluated in selecting participants:

• Suitability of the company's (or in the case of a trade association/organization, represented companies') products or services to the mission goals and the markets to be visited as part of this trade mission.

• Company's (or in the case of a trade association/organization, represented companies') potential for business in each of the markets to be visited as part of this trade mission.

• Consistency of the applicant's (or in the case of a trade association/organization, represented companies') goals and objectives with the stated scope of the mission.

Diversity of company size and location may also be considered during the review process. Referrals from political organizations and any documents containing references to partisan political activities (including political contributions) will be removed from an applicant's submission and not considered during the selection process.

FOR FURTHER INFORMATION CONTACT: Mr. Gemal Brangman, Project Officer, U.S. Department of Commerce, Washington, DC, Tel: 202-482-3773, Fax: 202-482-9000, Gemal.Brangman@trade.gov.

Anne Grey,
Trade Missions Program.

[FR Doc. 2015-19859 Filed 8-12-15; 8:45 am]

BILLING CODE 3510-DR-P